DEPARTMENT OF HOUSING AND URBAN DEVELOPMENT

[Docket No. FR-4644-N-23]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street, SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Mr. Jeff Holste, Military Programs, U.S. Army Corps of Engineers, Installation Support Center, Planning Branch, Attn: CEMP-IP, 441 G Street, NW, Washington, DC 20314-1000; (202) 761-5737; DOT: Mr. Rugene Spruill, Principal, Space Management, SVC-140, Transportation Administrative Service Center, Department of Transportation, 400 7th Street, SW, Room 2310, Washington, DC 20590; (202) 366-4246; Energy: Mr. Tom Knox, Department of Energy, Office of Contract & Resource Management, MA-53, Washington, DC 20585; (202) 586-8715; GSA: Mr. Brian K. Polly, Assistant Commissioner, General Services Administration, Office of Property Disposal, 18th and F Streets, NW, Washington, DC 20405; (202) 501-0052; Navy: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: May 31, 2001.
John D. Garrity,
Director, Office of Special Needs Assistance Programs.

Title V, Federal Surplus Property Program, Federal Register Report for 6/8/01

Suitable/Available Properties

Buildings (by State)

Alaska

Bldg. 00229

Fort Richardson

Ft. Richardson Co: AK 99505-6500

Landholding Agency: Army

Property Number: 21200120085

Status: Excess

Comment: 13,056 sq. ft., off-site use only

Arizona

Bldg. 22523

Fort Huachuca

Sierra Vista Co: Cochise AZ 85613—

Landholding Agency: Army

Property Number: 21200120086

Status: Excess

Comment: 63 sq ft., most recent use—storage, off-site use only

California

Bldg. 02453

Naval Air Weapons Station

China Lake Co: CA 93555-6001

Landholding Agency: Navy

Property Number: 77200120110

Status: Excess

Comment: 48 sq. ft., most recent use—storage locker, off-site use only

Bldg. 32027

Naval Air Weapons Station

China Lake Co: CA 93555-6001

Landholding Agency: Navy

Property Number: 77200120111

Status: Excess

Comment: 331 sq. ft., off-site use only

Bldg. 32534

Naval Air Weapons Station

China Lake Co: CA 93555-6001

Landholding Agency: Navy

Property Number: 77200120112

Status: Excess

Comment: 2252 sq. ft., most recent use—repair shop, off-site use only

Bldg. 32537

Naval Air Weapons Station

China Lake Co: CA 93444-6001

Landholding Agency: Navy

Property Number: 77200120113

Status: Excess

Comment: most recent use—instrument bldg., off-site use only

Maryland

Bldg. 618A

Fort George G. Meade

Ft. Meade Co: Anne Arundel MD 20755-5115

Landholding Agency: Army

Property Number: 21200120087

Status: Unutilized

Comment: 400 sq. ft., presence of asbestos/lead paint, most recent use—heat plant bldg., off-site use only

Bldg. 901

Fort George G. Meade

Ft. Meade Co: Anne Arundel MD 20755-5115

Landholding Agency: Army

Property Number: 21200120088

Status: Unutilized

Comment: 2740 sq. ft., presence of asbestos/lead paint, most recent use—storage, off-site use only

Bldgs. 902, 932, 937

Fort George G. Meade

Ft. Meade Co: Anne Arundel MD 20755-5115

Landholding Agency: Army

Property Number: 21200120089

Status: Unutilized

Comment: 2208 sq. ft., presence of asbestos/lead paint, most recent use—admin/dining, off-site use only

4 Bldgs.

Fort George G. Meade

#903, 906, 933, 936

Ft. Meade Co: Anne Arundel MD 20755-5115

Landholding Agency: Army

Property Number: 21200120090

Status: Unutilized

Comment: 1144 sq. ft., presence of asbestos/lead paint, most recent use—admin/storage/dayroom, off-site use only

10 Bldgs.

Fort George G. Meade

#904, 905, 913, 916, 923-926, 934, 935

Ft. Meade Co: Anne Arundel MD 20755-5115

Landholding Agency: Army

Property Number: 21200120091

Status: Unutilized

Comment: 4720 sq. ft., presence of asbestos/lead paint, most recent use—admin., off-site use only

Bldg. 907

Fort George G. Meade

Ft. Meade Co: Anne Arundel MD 20755-5115

Landholding Agency: Army

Property Number: 21200120092

Status: Unutilized

Comment: 2306 sq. ft., presence of asbestos/lead paint, most recent use—storage, off-site use only

Bldg. 908

Fort George G. Meade

Ft. Meade Co: Anne Arundel MD 20755-5115

Landholding Agency: Army

Property Number: 21200120093

Status: Unutilized

Comment: 3663 sq. ft., presence of asbestos/lead paint, most recent use—admin., off-site use only

Bldgs. 912, 917, 922, 927

Fort George G. Meade

Ft. Meade Co: Anne Arundel MD 20755-5115

Landholding Agency: Army

Property Number: 21200120094

Status: Unutilized

Comment: 1297 sq. ft., presence of asbestos/lead paint, most recent use—admin/storage, off-site use only

Bldg. 918

Fort George G. Meade

Ft. Meade Co: Anne Arundel MD 20755-5115

:Landholding Agency: Army

Property Number: 21200120095

Status: Unutilized

Comment: 2331 sq. ft., presence of asbestos/lead paint, most recent use—admin/classroom, off-site use only

4 Bldgs.

Fort George G. Meade

#928, 929, 2832, 2834

Ft. Meade Co: Anne Arundel MD 20755-5115

Landholding Agency: Army

Property Number: 21200120096

Status: Unutilized

Comment: 2284 sq. ft., presence of asbestos/lead paint, most recent use—admin., off-site use only

Bldg. 930

Fort George G. Meade

Ft. Meade Co: Anne Arundel MD 20755-5115

Landholding Agency: Army

Property Number: 21200120097

Status: Unutilized

Comment: 3108 sq. ft., presence of asbestos/lead paint, most recent use—storage, off-site use only

Bldgs. 938

Fort George G. Meade

Ft. Meade Co: Anne Arundel MD 20755-5115

Landholding Agency: Army

Property Number: 21200120098

Status: Unutilized

Comment: 1676 sq. ft., presence of asbestos/lead paint, most recent use—admin., off-site use only

Bldg. 2810

Fort George G. Meade

Ft. Meade Co: Anne Arundel MD 20755-5115

Landholding Agency: Army

Property Number: 21200120099

Status: Unutilized

Comment: 2441 sq. ft., poor condition, presence of asbestos/lead paint, most recent use—admin., off-site use only

Bldg. 2811

Fort George G. Meade

Ft. Meade Co: Anne Arundel MD 20755-5115

Landholding Agency: Army

Property Number: 21200120100

Status: Unutilized

Comment: 4720 sq. ft., poor condition, presence of asbestos/lead paint, most recent use—admin., off-site use only

Bldg. 2837

Fort George G. Meade

Ft. Meade Co: Anne Arundel MD 20755-5115

Landholding Agency: Army

Property Number: 21200120101

Status: Unutilized

Comment: 7670 sq. ft., presence of asbestos/lead paint, most recent use—admin., off-site use only

Bldg. 00262

Aberdeen Proving Ground

Aberdeen Co: Harford MD 21005-5001

Landholding Agency: Army

Property Number: 21200120102

Status: Unutilized

Comment: 24 sq. ft., presence of asbestos/lead paint, most recent use—access control facility, off-site use only

Bldg. 0310A

Aberdeen Proving Ground

Aberdeen Co: Harford MD 21005-5001

Landholding Agency: Army

Property Number: 21200120103

Status: Unutilized

Comment: 120 sq. ft., poor condition, presence of asbestos/lead paint, most recent use—storage, off-site use only

Bldg. 00313

Aberdeen Proving Ground

Aberdeen Co: Harford MD 21005-5001

Landholding Agency: Army

Property Number: 21200120104

Status: Unutilized

Comment: 983 sq. ft., most recent use—storage, off-site use only

Bldg. 00340

Aberdeen Proving Ground

Aberdeen Co: Harford MD 21005-5001

Landholding Agency: Army

Property Number: 21200120105

Status: Unutilized

Comment: 384 sq. ft., most recent use—storage, off-site use only

Bldg. 0459B

Aberdeen Proving Ground

Aberdeen Co: Harford MD 21005-5001

Landholding Agency: Army

Property Number: 21200120106

Status: Unutilized

Comment: 225 sq. ft., poor condition, most recent use—equipment bldg., off-site use only

Bldg. 00785

Aberdeen Proving Ground

Aberdeen Co: Harford MD 21005-5001

Landholding Agency: Army

Property Number: 21200120107

Status: Unutilized

Comment: 160 sq. ft., poor condition, most recent use—shelter, off-site use only

Bldg. E3325

Aberdeen Proving Ground

Aberdeen Co: Harford MD 21005-5001

Landholding Agency: Army

Property Number: 21200120108

Status: Unutilized

Comment: 452 sq. ft., poor condition, possible contamination, most recent use—lab, off-site use only

Bldg. E3728

Aberdeen Proving Ground

Aberdeen Co: Harford MD 21005-5001

Landholding Agency: Army

Property Number: 21200120109

Status: Unutilized

Comment: 2596 sq. ft., presence of asbestos/lead paint, most recent use—testing facility, off-site use only

Bldg. E3870

Aberdeen Proving Ground

Aberdeen Co: Harford MD 21005-5001

Landholding Agency: Army

Property Number: 21200120110

Status: Unutilized

Comment: 1208 sq. ft., presence of asbestos/lead paint, most recent use—lab/test facility, off-site use only

Bldg. E3948

Aberdeen Proving Ground

Aberdeen Co: Harford MD 21005-5001

Landholding Agency: Army

Property Number: 21200120111

Status: Unutilized

Comment: 1416 sq. ft., presence of asbestos/lead paint, most recent use—utility bldg., off-site use only

Bldg. 05213

Aberdeen Proving Ground

Aberdeen Co: Harford MD 21005-5001

Landholding Agency: Army

Property Number: 21200120112

Status: Unutilized

Comment: 200 sq. ft., poor condition, most recent use—storage, off-site use only

Bldg. E5239

Aberdeen Proving Ground

Aberdeen Co: Harford MD 21005-5001

Landholding Agency: Army

Property Number: 21200120113

Status: Unutilized

Comment: 230 sq. ft., most recent use—storage, off-site use only

Bldg. E5317

Aberdeen Proving Ground

Aberdeen Co: Harford MD 21005-5001

Landholding Agency: Army

Property Number: 21200120114

Status: Unutilized

Comment: 3158 sq. ft., presence of asbestos/lead paint, most recent use—lab, off-site use only

Bldg. E5637

Aberdeen Proving Ground

Aberdeen Co: Harford MD 21005-5001

Landholding Agency: Army

Property Number: 21200120115

Status: Unutilized

Comment: 312 sq. ft., presence of asbestos/lead paint, most recent use—lab, off-site use only

Bldg. 493

Naval Air Station

Patuxent River Co: MD 20670-

Landholding Agency: Navy

Property Number: 77200120155

Status: Excess

Comment: 5476 sq. ft., presence of asbestos, most recent use—maint/storage, off-site use only

New York

Bldg. 267

Fort Drum

Ft. Drum Co: Jefferson NY 13602-

Landholding Agency: Army

Property Number: 21200120116

Status: Unutilized

Comment: 1144 sq. ft., most recent use—hq. bldg., off-site use only

Bldg. 268

Fort Drum

Ft. Drum Co: Jefferson NY 13602-

Landholding Agency: Army

Property Number: 21200120117

Status: Unutilized

Comment: 1144 sq. ft., most recent use—hq. bldg., off-site use only

Bldg. 269

Fort Drum

Ft. Drum Co: Jefferson NY 13602-

Landholding Agency: Army

Property Number: 21200120118

Status: Unutilized

Comment: 2731 sq. ft., most recent use—hq. bldg., off-site use only

Lockport Comm. Facility Annex

6625 Shawnee Road

Wheatfield Co: NY 14120-

Landholding Agency: GSA

Property Number: 54200120009

Status: Excess

Comment: 3334 sq. ft., presence of asbestos, most recent use—admin/storage

GSA Number: 1-D-NY-885

Ohio

Bldg. 304

Defense Supply Center

Columbus Co: Franklin OH 43216-5000

Landholding Agency: Army

Property Number: 21200120131

Status: Unutilized

Comment: 219 sq. ft., most recent use—storage, off-site use only

Oklahoma

Bldg. P-706

Fort Sill

Lawton Co: Comanche OK 73503-5100

Landholding Agency: Army

Property Number: 21200120119

Status: Unutilized

Comment: 103 sq. ft., possible asbestos/lead paint, most recent use—storage, off-site use only

Bldg. P-747

Fort Sill

Lawton Co: Comanche OK 73503-5100

Landholding Agency: Army

Property Number: 21200120120

Status: Unutilized

Comment: 9232 sq. ft., possible asbestos/lead paint, most recent use—lab, off-site use only

Bldg. S-830

Fort Sill

Lawton Co: Comanche OK 73503-5100

Landholding Agency: Army

Property Number: 21200120121

Status: Unutilized

Comment: 7356 sq. ft., possible asbestos/lead paint, most recent use—vehicle maint., off-site use only

Bldg. S-831

Fort Sill

Lawton Co: Comanche OK 73503-5100

Landholding Agency: Army

Property Number: 21200120122

Status: Unutilized

Comment: 7344 sq. ft., possible asbestos/lead paint, most recent use—classroom, off-site use only

Bldg. P-842

Fort Sill

Lawton Co: Comanche OK 73503-5100

Landholding Agency: Army

Property Number: 21200120123

Status: Unutilized

Comment: 192 sq. ft., possible asbestos/lead paint, most recent use—storage, off-site use only

Bldg. T-911

Fort Sill

Lawton Co: Comanche OK 73503-5100

Landholding Agency: Army

Property Number: 21200120124

Status: Unutilized

Comment: 3080 sq. ft., possible asbestos/lead paint, most recent use—office, off-site use only

Bldg. P-1390

Fort Sill

Lawton Co: Comanche OK 73503-5100

Landholding Agency: Army

Property Number: 21200120125

Status: Unutilized

Comment: 106 sq. ft., possible asbestos/lead paint, most recent use—utility plant, off-site use only

Bldg. P-1672

Fort Sill

Lawton Co: Comanche OK 73503-5100

Landholding Agency: Army

Property Number: 21200120126

Status: Unutilized

Comment: 1056 sq. ft., possible asbestos/lead paint, most recent use—storage, off-site use only

Bldg. S-2362

Fort Sill

Lawton Co: Comanche OK 73503-5100

Landholding Agency: Army

Property Number: 21200120127

Status: Unutilized

Comment: 64 sq. ft., possible asbestos/lead paint, most recent use—gatehouse, off-site use only

Bldg. P-2421

Fort Sill

Lawton Co: Comanche OK 73505-5100

Landholding Agency: Army

Property Number: 21200120128

Status: Unutilized

Comment: 100 sq. ft., most recent use—storage, off-site use only

Bldg. P-2589

Fort Sill

Lawton Co: Comanche OK 73503-5100

Landholding Agency: Army

Property Number: 21200120129

Status: Unutilized

Comment: 3672 sq. ft., possible asbestos/lead paint, most recent use—storage, off-site use only

Bldg. T-3043

Fort Sill

Lawton Co: Comanche OK 73503-5100

Landholding Agency: Army

Property Number: 21200120130

Status: Unutilized

Comment: 80 sq. ft., possible asbestos/lead paint, most recent use—guard shack, off-site use only

Virginia

Bldgs. SS0305, SS0306

Fort A.P. Hill

Bowling Green Co: Caroline VA 22428-

Landholding Agency: Army

Property Number: 21200120132

Status: Unutilized

Comment: 1250 sq. ft., concrete block, off-site use only

Bldg. 16

Defense Supply Center

Richmond Co: Chesterfield VA 23297-

Landholding Agency: Army

Property Number: 21200120133

Status: Unutilized

Comment: 165 sq. ft., most recent use—sewage lift station bldg., off-site use only

Bldg. 46

Defense Supply Center

Richmond Co: Chesterfield VA 23297-

Landholding Agency: Army

Property Number: 21200120134

Status: Unutilized

Comment: 124 sq. ft., most recent use—storage, off-site use only

Bldg. 52

Defense Supply Center

Richmond Co: Chesterfield VA 23297-

Landholding Agency: Army

Property Number: 21200120135

Status: Unutilized

Comment: 240 sq. ft., presence of lead paint, most recent use—storage, off-site use only

Bldg. 68

Defense Supply Center

Richmond Co: Chesterfield VA 23297-

Landholding Agency: Army

Property Number: 21200120136

Status: Unutilized

Comment: 400 sq. ft., most recent use—storage, off-site use only

Bldg. 75

Defense Supply Center

Richmond Co: Chesterfield VA 23297-

Landholding Agency: Army

Property Number: 21200120137

Status: Unutilized

Comment: 1010 sq. ft., site contamination, most recent use—storage, off-site use only

Bldg. 112

Defense Supply Center

Richmond Co: Chesterfield VA 23297-

Landholding Agency: Army

Property Number: 21200120138

Status: Unutilized

Comment: 1744 sq. ft., presence of pesticides/asbestos, most recent use—storage, off-site use only

Wisconsin

Bldg. 2160

Fort McCoy

Ft. McCoy Co: Monroe WI 54656-5136

Landholding Agency: Army

Property Number: 21200120139

Status: Unutilized

Comment: 7036 sq. ft., needs rehab, most recent use—office, off-site use only

Suitable/Unavailable Properties

Land (by State)

Virginia

2.6 acres

Naval Station

Norfolk Co: VA 23508-1273

Landholding Agency: Navy

Property Number: 77200120131

Status: Underutilized

Comment: most recent use—brush/debris storage

1.15 acres

Naval Amphibious Base Little Creek

Norfolk Co: VA 23508-

Landholding Agency: Navy

Property Number: 77200120132

Status: Underutilized

Comment: most recent use—brush/debris storage

Unsuitable Properties

Buildings (by State)

California

Bldg. 70140

Naval Air Weapons Station

China Lake Co: CA 93555-6100

Landholding Agency: Navy

Property Number: 77200120107

Status: Excess

Reason: Extensive deterioration

Bldg. 70141

Naval Air Weapons Station

China Lake Co: CA 93555-6100

Landholding Agency: Navy

Property Number: 77200120108

Status: Excess

Reason: Extensive deterioration

Bldg. 70143

Naval Air Weapons Station

China Lake Co: CA 93555-6100

Landholding Agency: Navy

Property Number: 77200120109

Status: Excess

Reason: Extensive deterioration

Bldg. 25062

Naval Air Weapons Station

China Lake Co: CA 93555-6001

Landholding Agency: Navy

Property Number: 77200120114

Status: Excess

Reason: Extensive deterioration

Bldg. 33023

Naval Air Weapons Station

China Lake Co: CA 93555-6001

Landholding Agency: Navy

Property Number: 77200120115

Status: Excess

Reason: Extensive deterioration

Bldg. 33054

Naval Air Weapons Station

China Lake Co: CA 93555-6001

Landholding Agency: Navy

Property Number: 77200120116

Status: Excess

Reason: Extensive deterioration

Bldg. 106

Naval Amphibious Base

Naval Base Coronado

San Diego Co: CA 92135-7040

Landholding Agency: Navy

Property Number: 77200120134

Status: Excess

Reason: Extensive deterioration

Bldg. 108

Naval Amphibious Base

Naval Base Coronado

San Diego Co: CA 92135-7040

Landholding Agency: Navy

Property Number: 77200120135

Status: Excess

Reason: Extensive deterioration

Bldg. 109

Naval Amphibious Base

Naval Base Coronado

San Diego Co: CA 92135-7040

Landholding Agency: Navy

Property Number: 77200120136

Status: Excess

Reason: Extensive deterioration

Bldg. 110

Naval Amphibious Base

Naval Base Coronado

San Diego Co: CA 92135-7040

Landholding Agency: Navy

Property Number: 77200120137

Status: Excess

Reason: Extensive deterioration

Bldg. 147

Naval Amphibious Base

Naval Base Coronado

San Diego Co: CA 92135-7040

Landholding Agency: Navy

Property Number: 77200120138

Status: Excess

Reason: Extensive deterioration

Bldg. 163

Naval Amphibious Base

Naval Base Coronado

San Diego Co: CA 92135-7040

Landholding Agency: Navy

Property Number: 77200120139

Status: Excess

Reason: Extensive deterioration

Bldg. 244

Naval Amphibious Base

Naval Base Coronado

San Diego Co: CA 92133-5704

Landholding Agency: Navy

Property Number: 77200120140

Status: Excess

Reason: Extensive deterioration

Bldg. 250

Naval Amphibious Base

Naval Base Coronado

San Diego Co: CA 92135-7040

Landholding Agency: Navy

Property Number: 77200120141

Status: Excess

Reason: Extensive deterioration

Bldg. 251

Naval Amphibious Base

Naval Base Coronado

San Diego Co: CA 92135-7040

Landholding Agency: Navy

Property Number: 77200120142

Status: Excess

Reason: Extensive deterioration

Bldg. 252

Naval Amphibious Base

Naval Base Coronado

San Diego Co: CA 92135-7040

Landholding Agency: Navy

Property Number: 77200120143

Status: Excess

Reason: Extensive deterioration

Bldg. 311

Naval Amphibious Base

Naval Base Coronado

San Diego Co: CA 92135-7040

Landholding Agency: Navy

Property Number: 77200120144

Status: Excess

Reason: Extensive deterioration

Bldg. 313

Naval Amphibious Base

Naval Base Coronado

San Diego Co: CA 92135-7040

Landholding Agency: Navy

Property Number: 77200120145

Status: Excess

Reason: Extensive deterioration

Bldg. 318

Naval Amphibious Base

Naval Base Coronado

San Diego Co: CA 92135-7040

Landholding Agency: Navy

Property Number: 77200120146

Status: Excess

Reason: Extensive deterioration

Bldg. 339

Naval Amphibious Base

Naval Base Coronado

San Diego Co: CA 92135-7040

Landholding Agency: Navy

Property Number: 77200120147

Status: Excess

Reason: Extensive deterioration

Bldg. C-54

North Island

Naval Base Coronado

San Diego Co: CA 92135-7040

Landholding Agency: Navy

Property Number: 77200120148

Status: Excess

Reason: Extensive deterioration

Bldg. C-114

North Island

Naval Base Coronado

San Diego Co: CA 92135-7040

Landholding Agency: Navy

Property Number: 77200120149

Status: Excess

Reason: Extensive deterioration

Bldg. C-124

North Island

Naval Base Coronado

San Diego Co: CA 92135-7040

Landholding Agency: Navy

Property Number: 77200120150

Status: Excess

Reason: Extensive deterioration

Bldg. C-311

North Island

Naval Base Coronado

San Diego Co: CA 92135-7040

Landholding Agency: Navy

Property Number: 77200120151

Status: Excess

Reason: Extensive deterioration

Bldg. 312

North Island

Naval Base Coronado

San Diego Co: CA 92135-7040

Landholding Agency: Navy

Property Number: 77200120152

Status: Excess

Reason: Extensive deterioration

Bldg. 605

North Island

Naval Base Coronado

San Diego Co: CA 92135-7040

Landholding Agency: Navy

Property Number: 77200120153

Status: Excess

Reason: Extensive deterioration

Bldg. 610

North Island

Naval Base Coronado

San Diego Co: CA 92135-7040

Landholding Agency: Navy

Property Number: 77200120154

Status: Excess

Reason: Extensive deterioration

Florida

Bldg. C-25

Naval Air Station

Key West Co: Monroe FL 33040-

Landholding Agency: Navy

Property Number: 77200120117

Status: Unutilized

Reason: Extensive deterioration

Bldg. A-222

Naval Air Station

Key West Co: Monroe FL 33040-

Landholding Agency: Navy

Property Number: 77200120118

Status: Unutilized

Reason: Extensive deterioration

Bldg. 226

Naval Air Station

Key West Co: Monroe FL 33040-

Landholding Agency: Navy

Property Number: 77200120119

Status: Unutilized

Reason: Extensive deterioration

Bldg. A-255

Naval Air Station

Key West Co: Monroe FL 33040-

Landholding Agency: Navy

Property Number: 77200120120

Status: Unutilized

Reason: Extensive deterioration

Bldg. 299

Naval Air Station

Key West Co: Monroe FL 33040-

Landholding Agency: Navy

Property Number: 77200120121

Status: Unutilized

Reason: Extensive deterioration

Bldg. A-325

Naval Air Station

Key West Co: Monroe FL 33040-

Landholding Agency: Navy

Property Number: 77200120122

Status: Unutilized

Reason: Extensive deterioration

Bldg. A-628

Naval Air Station

Key West Co: Monroe FL 33040-

Landholding Agency: Navy

Property Number: 77200120123

Status: Unutilized

Reason: Extensive deterioration

Bldg. A-634

Naval Air Station

Key West Co: Monroe FL 33040-

Landholding Agency: Navy

Property Number: 77200120124

Status: Unutilized

Reason: Extensive deterioration

Bldg. A-728

Naval Air Station

Key West Co: Monroe FL 33040-

Landholding Agency: Navy

Property Number: 77200120125

Status: Unutilized

Reason: Extensive deterioration

New Jersey

30 Bldgs.

Camp Charles Wood

Ft. Monmouth Co: Eatontown NJ

Landholding Agency: GSA

Property Number: 5420012008

Status: Excess

Reason: Within 2000 ft. of flammable or explosive material

GSA Number: 1-D-NJ-470f

Quarters C

USCG Training Center

Cape May Co: NJ 08204-5002

Landholding Agency: GSA

Property Number: 87200120012

Status: Excess

Reason: Secured Area

Central Heating Plant

USCG Training Center

Cape May Co: NJ 08204-5002

Landholding Agency: DOT

Property Number: 87200120013

Status: Excess

Reason: Secured Area

Hangar/Shop

USCG Training Center

Cape May Co: NJ 08204-5002

Landholding Agency: DOT

Property Number: 87200120014

Status: Excess

Reason: Secured Area

North Carolina

Bldg. M-319

Marine Corps Base

Camp Lejeune Co: Onslow NC 28542-

Landholding Agency: Navy

Property Number: 77200120127

Status: Unutilized

Reason: Secured Area

Tennessee

Bldg. 9723-16

National Security Complex

Oak Ridge Co: Anderson Tn 37831-

Landholding Agency: Energy

Property Number: 41200120010

Status: Unutilized

Reasons: Secured Area Extensive deterioration

Virginia

Bldg. CEP-207

Naval Station

Norfolk Co: VA 23511-

Landholding Agency: Navy

Property Number: 77200120129

Status: Excess

Reason: Extensive deterioration

Bldg. 232

St. Julian's Creek Annex

Portsmouth Co: VA

Landholding Agency: Navy

Property Number: 77200120130

Status: Excess

Reason: Extensive deterioration

Washington

Bldg. 133

Naval Undersea Warfare Station

Keyport Co: Kitsap WA 98345-7610

Landholding Agency: Navy

Property Number: 77200120133

Status: Unutilized

Reasons: Within 2000 ft. of flammable or explosive material; Secured Area; Extensive deterioration

Unsuitable Properties

Land (by State)

North Carolina

Parcel of land

144 sq. ft.

Marine Corps Base

Camp Lejeune Co: Onslow NC 28542-

Landholding Agency: Navy

Property Number: 77200120126

Status: Underutilized

Reason: Secured Area

[FR Doc. 01-14122 Filed 6-7-01; 8:45 am]

BILLING CODE 4210-29-M